DEPARTMENT OF THE INTERIOR

National Park Service

[N6364; NPS-WASO-NAGPRA-NPS0040630; PPWOCRADN0-PCU00RP14.R50000]

Notice of Intended Repatriation: University of California, Berkeley, Berkeley, CA

AGENCY: National Park Service, Interior.

ACTION: Notice.

SUMMARY: In accordance with the Native American Graves Protection and Repatriation Act (NAGPRA), the University of California, Berkeley intends to repatriate certain cultural items that meet the definition of objects of cultural patrimony and that have a cultural affiliation with the Indian Tribes or Native Hawaiian organizations in this notice.

DATES: Repatriation of the cultural items in this notice may occur on or after August 29, 2025.

ADDRESSES: Send additional, written requests for repatriation of the cultural items in this notice to Alexandra Lucas, University of California, Berkeley, 200 California Hall, Berkeley, CA 94720, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in the summary or related records. The National Park Service is not responsible for the determinations in this notice.

Abstract of Information Available

A total of nine cultural items have been requested for repatriation. The objects of cultural patrimony are from the following accessions: Acc. 1184, Acc. 838, and Acc. 603 in the Phoebe A Hearst Museum of Anthropology at the University of California, Berkeley.

In preparation for an exhibition related to the food economy of California Indians by the University of California Museum of Anthropology (today the Phoebe A. Hearst Museum of Anthropology), Lawrence Dawson, R. K. Eckman, and others removed five lots of objects of cultural patrimony from Palm Springs, California in 1955. The objects of cultural patrimony are botanical samples.

In 1945, Grace Blair De Pue bequeathed more than 2,000 cultural belongings to the University of California Museum of Anthropology. Correspondence in the accession file indicated that Grace Blair De Pue acquired baskets from many traders, including R.B. Cregar, a prominent trader in the Coachella Valley, California. Two baskets removed from the area of Palm Springs, California by Grace Blair De Pue have been requested for repatriation.

In or before 1924, William Duncan Strong, a student at University of California, Berkeley, took two photographs of sites of importance to the Agua Caliente Band of Cahuilla Indians. The photographs were accessioned by the University of California Museum of Anthropology in 1924.

Collections and collection spaces at the Phoebe A Hearst Museum of Anthropology were treated with substances for preservation and pest control, some potentially hazardous. No records have been found to date at the Museum to indicate whether or not chemicals or natural substances were used prior to 1960.

Determinations

The University of California, Berkeley has determined that:

• The nine lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Agua Caliente Band of Cahuilla Indians of the Agua Caliente Indian Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 29, 2025. If competing requests for repatriation are received, the University of California, Berkeley must determine the most appropriate requestor prior to repatriation. Requests for joint repatriation of the cultural items are considered a single request and not competing requests. The University of California, Berkeley is responsible for sending a copy of this notice to the Indian Tribes and Native Hawaiian organizations identified in this notice and to any other consulting parties.

Authority: Native American Graves Protection and Repatriation Act, 25 U.S.C. 3004 and the implementing regulations, 43 CFR 10.9.

Dated: July 16, 2025.
Mariah Soriano,
Acting Manager, National NAGPRA Program.

[FR Doc. 2025-14366 Filed 7-29-25; 8:45 am]

BILLING CODE 4312-52-P